FEDERAL COMMUNICATIONS COMMISSION

Privacy Act System of Records

AGENCY: Federal Communications Commission (FCC, Commission, or the Agency).

ACTION: Notice; one new Privacy Act system of records; two deleted systems of records.

SUMMARY: Pursuant to subsection (e)(4) of the Privacy Act of 1974, as amended (“Privacy Act”), 5 U.S.C. 552a, the FCC proposes to add one new, consolidated system of records, FCC/EB-5, “Enforcement Bureau Activity Tracking System (EBATS).” FCC/EB-5, “EBATS” will incorporate the information, e.g., personally identifiable information (PII), presently covered by two FCC systems of records, FCC/EB-1, “Violators Files,” and FCC/EB-3, “Investigations and Hearings,” and also add new and updated information that pertains to the mission and activities of the FCC's Enforcement Bureau (EB or Bureau), including spectrum enforcement. Upon both the approval and deployment of FCC/EB-5, “EBATS,” the Commission will cancel FCC/EB-1 and FCC/EB-3. The purposes for adding this new system of records, FCC/EB-5, “EBATS,” are for EB to use the records in this system of records to improve the Bureau's operations and work flow, increase its reporting capabilities, and improve the reliability and consistency of its data. The new system of records will consolidate the systems of records that the Bureau currently uses so that all the PII data in the various EB information systems are now housed in a single, Bureau-wide, and consistently-defined system of records.

DATES: In accordance with subsections (e)(4) and (e)(11) of the Privacy Act, any interested person may submit written comments concerning the alteration of this system of records on or before January 13, 2011. The Office of Information and Regulatory Affairs (OIRA), Office of Management and Budget (OMB), which has oversight responsibility under the Privacy Act to review the system of records, and Congress may submit comments on or before January 24, 2011. The proposed new system of records will become effective on January 24, 2011 unless the FCC receives comments that require a contrary determination. The Commission will publish a document in the Federal Register notifying the public if any changes are necessary. As required by 5 U.S.C. 552a(r) of the Privacy Act, the FCC is submitting reports on this proposed new system to OMB and Congress.

ADDRESSES: Address comments to Leslie F. Smith, Privacy Analyst, Performance Evaluation and Records Management (PERM), Room 1-C216, Federal Communications Commission (FCC), 445 12th Street, SW., Washington, DC 20554, (202) 418-0217, or via the Internet at Leslie.Smith@fcc.gov.

FOR FURTHER INFORMATION CONTACT: Contact Leslie F. Smith, Performance Evaluation and Records Management (PERM), Room 1-C216, Federal Communications Commission, 445 12th Street, SW., Washington, DC 20554, (202) 418-0217 or via the Internet at Leslie.Smith@fcc.gov.

SUPPLEMENTARY INFORMATION: As required by the Privacy Act of 1974, as amended, 5 U.S.C. 552a(e)(4) and (e)(11), this document sets forth notice of this proposed new system of records maintained by the FCC. The FCC previously gave complete notice of the two systems of records, FCC/EB-1, “Violators Files” and FCC/EB-3, “Investigations and Hearings,” which it intends to cancel upon both the approval and deployment of FCC/EB-5, “EBATS,” as referenced under this Notice by publication in the Federal Register on April 5, 2006 (71 FR 17234, 17237 and 17238 respectively). This notice is a summary of the more detailed information about the proposed new system of records, which may be viewed at the location given above in the ADDRESSES section. The purposes for adding this new system of records, FCC/EB-5, “EBATS,” are for the FCC's Enforcement Bureau (EB) to use the records in FCC/EB-5, “EBATS,” to improve the Bureau's operations and workflow, increase its reporting capacities, and improve the reliability and consistency of its data. The new system of records will consolidate the separate and independent systems of records that the Bureau currently uses so that all PII data in the various EB information systems are now housed in a single, Bureau-wide, and consistently-defined system of records.

This notice meets the requirement documenting the change to the systems of records that the FCC maintains, and provides the public, OMB, and Congress with an opportunity to comment.

FCC/EB-5

SYSTEM NAME: Enforcement Bureau Activity Tracking System (EBATS).

SECURITY CLASSIFICATION:

The FCC's Security Operations Center (SOC) has not assigned a security classification to this system of records.

SYSTEM LOCATION:

Primary: Enforcement Bureau (EB), Federal Communications Commission (FCC), 445 12th Street, SW., Washington, DC 20554; and

Secondary: Various field facilities. Information about FCC Field Offices can also be found at http://www.fcc.gov/eb/rfo.

CATEGORIES OF INDIVIDUALS COVERED BY THE SYSTEM:

The records in this system include:

1. Individuals, including FCC employees, who have filed complaints alleging violations of the Communications Act of 1934, as amended (the “Communications Act”); FCC regulations; other statutes and regulations subject to the FCC's jurisdiction; and/or international treaties (collectively referred to hereafter as “FCC Rules and Regulations”) by FCC licensees or regulates, or individuals who have filed such complaints on behalf of business(es), institution(s), etc., and who may have included their personally identifiable information (PII) in the complaint;

2. Individuals who are or have been the subjects of Federal Communications Commission (FCC) field monitoring, inspection, and/or investigation, etc., for possible violations of FCC Rules and Regulations;

3. Licensees, applicants, regulatees, and unlicensed individuals about whom there are questions of compliance with FCC Rules and Regulations; and

4. FCC employees, contractors, and interns who perform work on behalf of the Enforcement Bureau.

CATEGORIES OF RECORDS IN THE SYSTEM:

The categories of records in this system include:

1. Information that is associated with those individuals who file complaints or who are being investigated for possible enforcement actions, e.g., violators, etc. The information may include:

(a) An individual's name, Social Security Number (SSN) or Taxpayer Identification Number (TIN), gender, race/ethnicity, birth date/age, place of birth, biometric data (photograph(s)), marital status, spousal data, miscellaneous family data, home address, home address history, home telephone number(s), personal cell phone number(s), personal fax number(s), personal e-mail address(es), credit card number(s), driver license number(s), bank account data, financial data, law enforcement data, background investigatory data, national security data, employment and/or employer data, and other miscellaneous materials, documents, and files, etc., which are used for background information and data verification, etc.;

(b) Inspection reports, audit reports, complaints, referrals, monitoring reports, inspection cases, referral memos, correspondence, discrepancy notifications, warning notices, and forfeiture actions, etc.; and

(c) Miscellaneous materials, documents, files, and records that are used for background information and data verification concerning individuals who may be accused or have violated the Commission's rules and regulations.

2. The information that is associated with the same or similar current enforcement cases and historic records and other archival, background, and research data and materials that are stored for reference in enforcement actions, i.e., inspection reports, complaints, monitoring reports, investigative cases, referral memos, correspondence, discrepancy notifications, warning notices, and forfeiture actions; and

3. Other, miscellaneous information that complainants may have included on FCC Forms 475B, 501, 1088, and/or 2000, as well as any additional FCC forms that may be used from time to time to report possible violations of FCC Rules and Regulations (as defined above) to the FCC or associated with case files.

AUTHORITY FOR MAINTENANCE OF THE SYSTEM:

47 U.S.C. 101, 102, 104, 301, 303, 309(e), 312, 315, 318, 362, 364, 386, 501, 502, 503, 507, and 510.

PURPOSE(S):

The Enforcement Bureau uses the information in this information system:

1. To track the status of enforcement cases of entities (including individuals) that have been identified as possible violators of the FCC's Rules and Regulations (as defined above);

2. To determine the levels of compliance among FCC licensees, and other regulatees;

3. To document Commission monitoring, audits, inspections and investigations for compliance and enforcement purposes;

4. To provide a basis for the various administrative and civil, or criminal actions against violators by the Enforcement Bureau (EB), other appropriate Commission bureaus or offices, and/or other government agencies;

5. To gather background information for reference materials from various external databases and resources, etc., to insure that the information that is being compiled is accurate and up-to-date (“cross-checking”) in the course of investigating consumer complaints and/or enforcement cases;

6. To maintain archival information (paper documents and files) for reference in enforcement investigations and other actions; and

7. To prevent duplication of FCC's enforcement actions, e.g., for cross-reference purposes, etc.

ROUTINE USES OF RECORDS MAINTAINED IN THE SYSTEM, INCLUDING CATEGORIES OF USERS AND THE PURPOSES OF SUCH USES:

Information about individuals in this system of records may routinely be disclosed under the following conditions:

1. Public Access—Copies of FCC enforcement actions are available for public inspection via the Internet at http://www.fcc.gov/eb/, and in the FCC's Reference Information Center at http://www.fcc.gov/cgb/ric.html;

2. Employment, Clearances, Licensing, Contract, Grant, or other Benefits Decisions by the Agency—Disclosure may be made to a Federal, State, local, or foreign agency maintaining civil, criminal, or other relevant enforcement records, other pertinent records, or to another public authority or professional organization, if necessary to obtain information relevant to an investigation concerning the retention of an employee or other personnel action (other than hiring), the retention of a security clearance, the letting of a contract, or the issuance or retention of a grant or other benefit;

3. Employment, Clearances, Licensing, Contract, Grant, or other Benefits Decisions by an Entity other than the Agency—Disclosure may be made to a Federal, State, local, foreign, Tribal, or other public authority of the fact that this system of records contains information relevant to the retention of an employee, the retention of a security clearance, the letting of a contract, or the issuance or retention of a license, grant, or other benefit. The other agency or licensing organization may then make a request supported by the written consent of the individual for the entire records if it so chooses. No disclosure will be made unless the information has been determined to be sufficiently reliable to support a referral to another office within the Agency or to another Federal agency for criminal, civil, administrative, personnel, or regulatory action;

4. Adjudication and Litigation—Where by careful review, the Agency determines that the records are both relevant and necessary to litigation and the use of such records is deemed by the Agency to be for a purpose that is compatible with the purpose for which the Agency collected the records, these records may be used by a court or adjudicative body in a proceeding when: (a) The Agency or any component thereof; or (b) any employee of the Agency in his or her official capacity; or (c) any employee of the Agency in his or her individual capacity where the Agency has agreed to represent the employee; or (d) the United States Government is a party to litigation or has an interest in such litigation;

5. Law enforcement and Investigation—Where there is an indication of a violation or potential violation of a statute, regulation, rule, or order, records from this system may be shared with appropriate Federal, State, or local authorities either for purposes of obtaining additional information relevant to a FCC decision or for referring the record for investigation, enforcement, or prosecution by another agency;

6. Congressional Inquiries—When requested by a Congressional office in response to an inquiry by an individual made to the Congressional office for their own records;

7. Government-wide Program Management and Oversight—When requested by the National Archives and Records Administration (NARA) for the purpose of records management inspections conducted under authority of 44 U.S.C. 2904 and 2906; when the U.S. Department of Justice (DOJ) is contacted in order to obtain that department's advice regarding disclosure obligations under the Freedom of Information Act; or when the Office of Management and Budget (OMB) is contacted in order to obtain that office's advice regarding obligations under the Privacy Act;

8. FCC Enforcement Actions—When a record in this system involves an informal complaint filed alleging a violation of FCC Rules and Regulations (as defined above) by an applicant, licensee, regulated entity or an unlicensed person or entity, the complaint may be provided to the alleged violator for a response. When an order or other Commission-issued document that includes consideration of an informal complaint or complaints is issued by the FCC to implement or to enforce FCC Rules and Regulations (as defined above), the complainant's name may be made public in that order or document. Where a complainant in filing his or her complaint explicitly requests that confidentiality of his or her name from public disclosure, the Commission will endeavor to protect such information from public disclosure. Complaints that contain requests for confidentiality may be dismissed if the Commission determines that the request impedes the Commission's ability to investigate and/or resolve the complaint;

9. Breach of Federal Data—A record from this system may be disclosed to appropriate agencies, entities, and persons when (1) the Commission suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and persons is reasonably necessary to assist in connection with the Commission's efforts to respond to the suspected or confirmed compromise and prevent, minimize, or remedy such harm;

10. Due Diligence Inquiries—Where there is an indication of a violation or potential violation of FCC Rules and Regulations (as defined above), records from this system may be shared with a requesting individual, or representative thereof, for purposes of obtaining such information so long as relevant to a pending transaction of a FCC-issued license.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Information in this information system consists of electronic records, files, and data that are stored in the FCC's computer network databases, at headquarters and in the field offices, and paper records, documents, and files that are stored in filing cabinets in the EB office suites at headquarters and in field offices.

RETRIEVABILITY:

1. Information in the electronic database information can be retrieved by the name(s) of the individual(s) who filed the complaint(s), the individual who is subject of the complaint, and by a unique case number assigned to each type of activity conducted by the Bureau, e.g., inspections, audits, investigations, hearings, due diligence requests, etc.

2. Information in the central files, e.g., paper documents, records, and files, etc., includes all the other information pertaining to these complainant investigations and/or cases, i.e., name, address, telephone number, etc., and is maintained for reference and archival purposes. This information is retrieved by a unique identification number assigned to each complainant investigation and/or case.

SAFEGUARDS:

The paper files, documents, and records are stored in file cabinets in non-public areas in the EB office suites at headquarters and in field offices. The file cabinets are locked at the end of each business day or when not in use.

The electronic records, data, and files are maintained in the FCC computer network databases at headquarters and in the field offices. Access to both the paper files and the electronic files is restricted to authorized EB supervisors and staff. Authorized staff and contractors in the FCC's Information Technology Center (ITC) have access to the electronic files. Other employees, interns, and contractors may be granted access to the paper files and/or the electronic files on a “need-to-know” basis. The FCC's computer network databases are protected by the FCC's security protocols, which include controlled access, passwords, and other security features. Information resident on the database servers is backed-up routinely onto magnetic media. Backup tapes are stored on-site and at a secured, off-site location. The information that is stored in the computer databases in the EB field offices is protected by similar security protocols and safeguards.

RETENTION AND DISPOSAL:

The retention schedule for this system of records has not yet been determined. No records will be destroyed until a disposal schedule is approved by the National Archives and Records Administration (NARA). [check with Records Management]

SYSTEM MANAGER(S) AND ADDRESS:

Enforcement Bureau (EB), Federal Communications Commission (FCC), 445 12th Street, SW., Washington, DC 20554.

NOTIFICATION PROCEDURE:

Under the authority granted to heads of agencies by 5 U.S.C. 552a(k), the FCC has determined (47 CFR Section 0.561) that this system of records is exempt from disclosing its notification procedure for this system of records.

RECORD ACCESS PROCEDURES:

Under the authority granted to heads of agencies by 5 U.S.C. 552a(k), the FCC has determined (47 CFR Section 0.561) that this system of records is exempt from disclosing its record access procedure for this system of records.

CONTESTING RECORD PROCEDURE:

Under the authority granted to heads of agencies by 5 U.S.C. 552a(k), the FCC has determined (47 CFR Section 0.561) that this system of records is exempt from disclosing its contesting record procedure for this system of records.

RECORD SOURCE CATEGORIES:

Under the authority granted to heads of agencies by 5 U.S.C. 552a(k), the FCC has determined (47 CFR Section 0.561) that this system of records is exempt from disclosing its record sources for this system of records.

EXEMPTION FROM CERTAIN PROVISIONS OF THE ACT:

This system of records is exempt from sections (c)(3), (d), (e)(4)(G), (H), and (I), and (f) of the Privacy Act of 1974, 5 U.S.C. 552a, and from 47 CFR 0.554-0.557 of the Commission's rules. These provisions concern the notification, record access, and contesting procedures described above, and also the publication of record sources. The system is exempt from these provisions because it contains the following types of information:

1. Investigative material compiled for law enforcement purposes as defined in Section (k)(2) of the Privacy Act;

2. Properly classified information, obtained from another Federal agency during the course of a personnel investigation, which pertains to national defense and foreign policy, as stated in Section (k)(1) of the Privacy Act; and

3. Investigative material compiled solely for the purpose of determining suitability, eligibility, or qualifications for Federal civilian employment, as described in Section (k)(5) of the Privacy Act, as amended.

Federal Communications Commission.
Marlene H. Dortch,
Secretary, Federal Communications Commission.

[FR Doc. 2010-31356 Filed 12-13-10; 8:45 am]

BILLING CODE 6712-01-P